DEPARTMENT OF THE INTERIOR

Bureau of Land Management

[LLCA9300000;L14300000;EU0000;CACA 053961]

Notice of Intent To Amend the California Desert Conservation Area Plan for the Needles Field Office and Prepare an Associated Environmental Assessment

AGENCY: Bureau of Land Management, Interior.

ACTION: Notice of Intent.

SUMMARY: In compliance with the National Environmental Policy Act of 1969, as amended (NEPA), and the Federal Land Policy and Management Act of 1976, as amended (FLPMA), the Bureau of Land Management (BLM) Needles Field Office, Needles, California, intends to prepare an amendment to the 1980 California Desert Conservation Area (CDCA) Plan with an associated Environmental Assessment (EA) to analyze the sale of the reversionary interest held by the United States (U.S.) in 50 acres of land previously conveyed out of Federal ownership and by this notice is announcing the beginning of the scoping process to solicit public comments and identify issues.

DATES: This notice initiates the public scoping process for the CDCA Plan amendment with an associated EA. Comments on issues may be submitted in writing until August 7, 2013. The BLM does not plan to hold any scoping meetings for this plan amendment. In order to be included in the analysis, all comments must be received prior to the close of the 30-day scoping period. We will provide additional opportunities for public participation as appropriate.

ADDRESSES: You may submit comments on issues and planning criteria related to the CDCA Plan amendment and associated EA by any of the following methods:

• Email: gmeckfessel@blm.gov

• Fax: 760-326-7099

• Mail: Raymond Lee, BLM Needles Field Manager, 1303 S. Highway 95, Needles, CA 92363

Documents pertinent to this proposal may be examined at the Needles Field Office, 1303 S. U.S. Highway 95, Needles, CA 92363.

FOR FURTHER INFORMATION CONTACT: George R. Meckfessel, Planning and Environmental Coordinator, BLM Needles Field Office, telephone 760-326-7008; address 1303 S. U.S. Highway 95, Needles, CA 92363; email gmeckfessel@blm.gov. You may request to have your name added to the BLM's mailing list. Further information is also available online at the Needles BLM Field Office Web site: http://www.blm.gov/ca/st/en/fo/needles.html.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM Needles Field Office, Needles, California, intends to prepare an amendment to the 1980 CDCA Plan with an associated EA; announces the beginning of the scoping process; and seeks public input on issues and planning criteria. The planning area is located in San Bernardino County, California, and encompasses the reversionary interest held by the U.S. in 50 acres of land previously conveyed out of Federal ownership. The BLM anticipates receiving requests from the current owners to purchase the reversionary interest held by the U.S. in portions of the following described land:

San Bernardino Meridian

T. 9 N., R. 23 E.,

Sec. 31, NWNENE and NWNE.

Containing 50 acres in San Bernardino County, California.

The land described above was conveyed in 1966 to the City of Needles under the authority of the Recreation and Public Purposes Act of June 14, 1926 (R&PP) for park and recreational purposes. The land is surrounded by private land and is not contiguous to any other public land. When public land is conveyed under the authority of the R&PP, the U.S. retains a reversionary interest in the land, which could result in title to the land reverting to the U.S. if the land is not used for the purposes for which it was conveyed, or if the land is sold or transferred without the BLM's approval. The BLM is responsible for monitoring the reversionary interest in perpetuity to ensure the land is used for the purposes for which it was conveyed. Since the land described above was conveyed in 1966, the BLM has approved the transfer of title to a portion of the land to the County of San Bernardino and has approved several changes in use of the land. The reversionary interest in the land described above was not specifically identified for sale in the 1980 CDCA Plan, as amended, and a plan amendment is required to process a direct sale. The purpose of the public scoping process is to determine relevant issues that will influence the scope of the environmental analysis, including alternatives, and guide the planning process.

The BLM anticipates that the EA will consider both a plan amendment and possible subsequent sales of the Federal reversionary interest and has identified local land uses and input from local governments as the primary preliminary issue of concern. The BLM anticipates that the EA will include, at a minimum, input from the disciplines of land use planning, biology, and archaeology. This plan amendment will be limited to an analysis of whether the reversionary interest in the land described above meets the criteria for sale under Section 203 of FLPMA, which are the planning criteria for this amendment.

You may submit comments on issues and planning criteria in writing to the BLM using one of the methods listed in the ADDRESSES section above. To be most helpful, your comments should be submitted by the close of the 30-day scoping period.

The BLM will use its fulfillment of the NEPA public participation requirements to assist the agency in satisfying the public involvement requirements under Section 106 of the National Historic Preservation Act (NHPA) (16 U.S.C. 470(f)) pursuant to 36 CFR 800.2(d)(3). The information about historic and cultural resources within the area potentially affected by the proposed action will assist the BLM in identifying and evaluating impacts to such resources in the context of both NEPA and Section 106 of the NHPA.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the environmental analysis as a cooperating agency.

The BLM will evaluate identified issues to be addressed in the plan amendment, and will place them into one of three categories:

1. Issues to be resolved in the plan amendment;

2. Issues to be resolved through policy or administrative action; or

3. Issues beyond the scope of this plan amendment.

The BLM will provide an explanation in the EA as to why an issue was placed in category two or three. The public is also encouraged to help identify any management questions and concerns that should be addressed in the plan amendment. The BLM will work collaboratively with interested parties to identify the management decisions that are best suited to local, regional, and national needs and concerns.

Before including your address, phone number, email address, or other personal identifying information in your comment, you should be aware that your entire comment—including your personal identifying information—may be made publicly available at any time. While you can ask us in your comment to withhold your personal identifying information from public review, we cannot guarantee that we will be able to do so.

Authority: 40 CFR 1501.7 and 43 CFR 1610.2.

Cynthia Staszak,
Associate Deputy State Director, Resources California.

[FR Doc. 2013-16276 Filed 7-5-13; 8:45 am]

BILLING CODE 4310-40-P